DEPARTMENT OF JUSTICE

Notice of Filing of Proposed Settlement Agreement Resolving Bankruptcy Proofs of Claim Relating to the Breslube-Penn Superfund Site

On October 17, 2012, a proposed Settlement Agreement was filed, on behalf of the United States and others, with the United States Bankruptcy Court for the District of Delaware in the proceeding entitled In re: Hussey Copper Corp., et al., Bkr. Case No. 11-13010 (BLS).

Pursuant to an August 2009 Consent Decree, debtors Hussey Copper Corp. and HCL Liquidation Ltd. f/k/a Hussey Copper Ltd. (“Debtors”) are jointly and severally obligated to perform a remedial design and remedial action, and to take certain other actions, related to the Breslube Penn Superfund Site, located near Pittsburgh at 84 Montour Road, Coraopolis, Pennsylvania. Debtors filed bankruptcy petitions on September 27, 2011, and the United States filed proofs of claim numbers 538 and 539 in March 2012. The proposed Settlement Agreement resolves these proofs of claims by providing for an allowed claim in the amount of $300,000 against each Debtor, as well as release of all proceeds of a related $163,507 letter of credit to the remaining parties that are implementing the 2009 Consent Decree. Those parties also filed a proof of claim that is resolved by the proposed Settlement Agreement.

The publication of this notice opens a period for public comment on the proposed Settlement Agreement. Comments should be addressed to the Assistant Attorney General, Environment and Natural Resources Division, and should refer to In re: Hussey Copper Corp., et al., Bkr. Case No. 11-13010 (BLS), D.J. Ref. No. 90-11-3-1762/6. All comments must be submitted no later than twenty (20) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Settlement Agreement may be examined and downloaded at this Justice Department Web site: http://www.usdoj.gov/enrd/Consent_Decrees.html. We will provide a paper copy of the proposed Settlement Agreement upon written request and payment of reproduction costs. Please mail your request and payment to: Consent Decree Library, U.S. DOJ—ENRD, P.O. Box 7611, Washington, DC 20044-7611.

Please enclose a check or money order for $3.50 (25 cents per page reproduction cost) payable to the United States Treasury.

Maureen Katz,
Assistant Section Chief, Environmental Enforcement Section, Environment and Natural Resources Division.

[FR Doc. 2012-26010 Filed 10-22-12; 8:45 am]

BILLING CODE 4410-15-P